DEPARTMENT OF AGRICULTURE

Animal and Plant Health Inspection Service

7 CFR Part 319

[Docket No. APHIS-2007-0115]

RIN 0579-AC83

Importation of Sweet Oranges and Grapefruit From Chile; Technical Amendment

AGENCY: Animal and Plant Health Inspection Service, USDA.

ACTION: Final rule; technical amendment.

SUMMARY: In a final rule that was published in the Federal Register on April 7, 2009, and effective on May 7, 2009, we amended the fruits and vegetables regulations to allow the importation of sweet oranges and grapefruit from Chile into the continental United States. However, in making this change, we inadvertently amended the regulations to restrict the importation of clementines, mandarins, and tangerines from Chile to the continental United States and Hawaii, when in fact those fruits had been eligible for importation into the entire United States, including the territories. This technical amendment is necessary to correct that error.

DATES: Effective Date: September 10, 2009.

FOR FURTHER INFORMATION CONTACT: Mr. David Lamb, Import Specialist, Risk Management and Plants for Planting Policy, PPQ, APHIS, 4700 River Road, Unit 133, Riverdale, MD 20737-1231; (301) 734-0627.

SUPPLEMENTARY INFORMATION: In a final rule published in the Federal Register on April 7, 2009 (74 FR 15635-15640, Docket No. APHIS-2007-0115), and effective on May 7, 2009, we amended the regulations in “Subpart—Fruits and Vegetables” (7 CFR 319.56-1 through 319.56-49) to allow the importation, under certain conditions, of sweet oranges and grapefruit from Chile into the continental United States. These conditions, which we established in § 319.56-38, are the same as those that were already in place for the importation of clementines, mandarins, and tangerines from Chile in § 319.56-38, except that clementines, mandarins, and tangerines from Chile have been eligible for importation into the entire United States, including its territories. However, in adding sweet oranges and grapefruit to the list of fruit eligible for importation from Chile in the introductory text of § 319.56-38, we inadvertently restricted the importation of clementines, mandarins, and tangerines to the continental United States and Hawaii. This document corrects that error.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

2. In § 319.56-38, the introductory text is revised to read as follows:

§ 319.56-38 Citrus from Chile.

Clementines (Citrus reticulata Blanco var. Clementine), mandarins (Citrus reticulata Blanco), and tangerines (Citrus reticulata Blanco) may be imported into the United States from Chile, and grapefruit (Citrus paradisi Macfad.) and sweet oranges (Citrus sinensis (L.) Osbeck) may be imported into the continental United States from Chile, in accordance with this section and all other applicable provisions of this subpart.

* * * * *

Done in Washington, DC, this 3rd day of September 2009.
Kevin Shea,
Acting Administrator, Animal and Plant Health Inspection Service.

[FR Doc. E9-21801 Filed 9-9-09; 8:45 am]

BILLING CODE 3410-34-P